DEPARTMENT OF TRANSPORTATION

Coast Guard

33 CFR Part 165

[COTP Miami 01-074]

RIN 2115-AA97

Safety Zone; Fort Lauderdale, Florida

AGENCY: Coast Guard, DOT.

ACTION: Temporary final rule.

SUMMARY: The Coast Guard Captain of the Port is establishing a temporary safety zone on the Atlantic Intracoastal Waterway under the Southeast 17th Street (State Road A1A) highway bridge in Fort Lauderdale, FL. This safety zone will be in effect for one hour on two different days during the demolition of the bascule piers for the old drawbridge across the waterway. This safety zone is needed to protect all vessels from potential safety hazards associated with the demolition of the bascule piers.

DATES: This regulation is effective from 3:30 p.m. on July 17, 2001 until 12:30 p.m. on July 24, 2001.

ADDRESSES: Comments and material received from the public, as well as documents indicated in this preamble as being available in the docket, are part of docket [COTP Miami 01-074] and are available for inspection or copying at Marine Safety Office Miami, 100 MacArthur Causeway, Miami Beach, FL 33139, between 7:30 a.m. and 4 p.m., Monday through Friday, except Federal holidays.

FOR FURTHER INFORMATION CONTACT: Lieutenant Commander Boudrow, at Coast Guard Marine Safety Office Miami, Florida, telephone: (305) 535-8701.

SUPPLEMENTARY INFORMATION:

Regulatory Information

We did not publish a notice of proposed rulemaking (NPRM) for this regulation. Under 5 U.S.C. 553(b)(B), the Coast Guard finds that good cause exists for not publishing an NPRM. Publishing an NPRM would be contrary to public safety interests since immediate action is needed to minimize potential danger associated with the demolition of the bridge.

For the same reason, under 5 U.S.C. 553(d)(3), the Coast Guard finds that good cause exists for making this rule effective less than 30 days after publication in the Federal Register.

Background and Purpose

The Coast Guard Captain of the Port is establishing a temporary safety zone closing the Intracoastal Waterway at the 17th Street Causeway Bridge, mile marker 1065.9, in Fort Lauderdale, FL to all marine traffic. This closure has been requested by the Florida Department of Transportation in order to remove portions of the old draw bridge's bascule piers on either side of the waterway by contractors. The work includes the demolition of the existing bascule piers below the waterline. The Coast Guard has reviewed the planned scope of work and has determined that a safety zone and waterway closure are necessary to protect all vessels from potential safety hazards posed by demolition activities.

The safety zone will be in effect from approximately 3:30 p.m. until 4:30 p.m. on July 17, 2001 and from 11:30 a.m. until 12:30 p.m. on July 24, 2001. The closure of the waterway was scheduled during a period which will minimize the impact to the boating community. The Coast Guard will issue Broadcast Notice to Mariners to advise mariners of the scheduled closure. Boat traffic will be directed to Hillsboro Inlet and the Port of Palm Beach to the north and Port Everglades to the south as alternate routes. The closure will be strictly enforced by the Coast Guard, the Fort Lauderdale Police Marine Patrol and Florida Marine Patrol.

Regulatory Evaluation

This proposal is not a “significant regulatory action” under section 3(f) of Executive Order 12866, Regulatory Planning and Review, and does not require an assessment of potential costs and benefits under section 6(a)(3) of that order. The Office of Management and Budget has not reviewed it under that order. It is not “significant” under the regulatory policies and procedures of the Department of Transportation (DOT) (44 FR 11040 February 26, 1979). The Coast Guard expects the economic impact of this proposal to be so minimal that a full Regulatory Evaluation is necessary because the safety zone will only be in effect for a brief time on two days.

Small Entities

Under the Regulatory Flexibility Act (5 U.S.C. 601-612), we have considered whether this rule will have a significant economic effect upon a substantial number of small entities. “Small entities” include small business, not-for-profit organizations that are independently owned and operated and are not dominant in their fields, and governmental jurisdictions with populations of less than 50,000.

The Coast Guard certifies under 5 U.S.C. 605(b) that this rule will not have a significant economic impact on a substantial number of small entities because the regulations will only be in effect for two short periods of time on two days. Further, the closure times will be publicized by broadcasts.

Assistance for Small Entities

Under section 213(a) of the Small Business Regulatory Enforcement Fairness Act of 1996 (Public Law 104-121), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501-3520).

Federalism

A rule has implications for federalism under Executive Order 13132, Federalism, if it has a substantial direct effect on State or local governments and would either preempt State law or impose a substantial direct cost of compliance on them. We have analyzed this rule under that Order and have determined that this rule does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Environment

The Coast Guard has considered the environmental impact of this action and has determined under figure 2-1, paragraph 34(g) of Commandant Instruction M16475.1C, that this rule is categorically excluded from further environmental documentation.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, Waterways.

For the reasons discussed in the preamble, the Coast Guard amends 33 CFR part 165 as follows:

PART 165—[AMENDED]

1. The authority citation for part 165 continues to read as follows:

Authority: 33 U.S.C. 1231; 50 U.S.C. 191, 33 CFR 1.05-1(g), 6.04-1, 6.04-6, 160.5, 49 CFR 1.46.

2. Temporary § 165.T07-074 is added to read as follows:

§ 165.T07-074 Safety Zone; Fort Lauderdale, Florida

(a) Regulated area. All waters within 1000 feet on either side of the 17th Street Causeway Bridge, Mile Marker 1065.9, in Fort Lauderdale, Florida.

(b) Regulations. In accordance with the general regulations in § 165.23 of this part, anchoring, mooring or transiting in this zone is prohibited unless authorized by the Coast Guard Captain of the Port. The Captain of the Port will notify the public of any changes in the status of this zone by Marine Safety Radio Broadcast on VHF Marine Band Radio, Channel 22 (157.1 MHz).

(c) Dates. This section is effective from 3:30 p.m. until 4:30 p.m. on July 17, 2001, and from 11:30 a.m. until 12:30 p.m. on July 24, 2001.

Dated: July 6, 2001.
L.J. Bowling,
Captain, U.S. Coast Guard, Captain of the Port, Miami, Florida.

[FR Doc. 01-17949 Filed 7-17-01; 8:45 am]

BILLING CODE 4910-15-U